DEPARTMENT OF AGRICULTURE

Animal and Plant Health Inspection Service

[Docket No. 05-015-2]

National Animal Identification System; Draft Strategic Plan and Draft Program Standards

AGENCY: Animal and Plant Health Inspection Service, USDA.

ACTION: Notice of availability; extension of comment period.

SUMMARY: We are extending the comment period for our notice of availability of a Draft Strategic Plan and a Draft Program Standards document for the National Animal Identification System. This action will allow interested persons additional time to prepare and submit comments.

DATES: We will consider all comments that we receive on or before July 6, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-015-1, Regulatory Analysis and Development, PPD, APHIS, Station 3C71, 4700 River Road Unit 118, Riverdale, MD 20737-1238. Please state that your comment refers to Docket No. 05-015-1.

Reading Room: You may read any comments that we receive on Docket No. 05-015-1 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Mr. Neil Hammerschmidt, Animal Identification Officer, Eradication and Surveillance Team, National Center for Animal Health Programs, VS, APHIS, 4700 River Road Unit 43, Riverdale, MD 20737-1231; (301) 734-5571; or Dr. John F. Wiemers, National Animal Identification Staff, VS, APHIS, 2100 S. Lake Storey Road, Galesburg, IL 61401; (309) 344-1942.

SUPPLEMENTARY INFORMATION: On May 6, 2005, we published in the Federal Register (70 FR 23961-23963, Docket No. 05-015-1) a notice advising the public that a Draft Strategic Plan and a Draft Program Standards document for the National Animal Identification System (NAIS) were available for public comment and review. The Draft Strategic Plan describes the process of developing the NAIS, in particular the timeline for full implementation, while the Draft Program Standards document presents our current view of how the system would work when fully implemented.

The notice of availability also included questions intended to solicit comments on various aspects of the two documents on which we were particularly interested in receiving feedback from the public. In the notice, we solicited comments for 30 days, ending June 6, 2005.

In this document, we are extending the comment period for Docket No. 05-015-1 for an additional 30 days, until July 6, 2005. This action will allow interested persons additional time to prepare and submit comments.

Authority: 7 U.S.C. 8301-8317; 7 CFR 2.22, 2.80, and 371.4.

Done in Washington, DC, this 17th day of May 2005.
Elizabeth E. Gaston,
Acting Administrator, Animal and Plant Health Inspection Service.

[FR Doc. 05-10102 Filed 5-19-05; 8:45 am]

BILLING CODE 3410-34-P